DEPARTMENT OF COMMERCE

National Oceanic and Atmospheric Administration

RIN 0648-XR73

Endangered Species; File No. 14249

AGENCY: National Marine Fisheries Service (NMFS), National Oceanic and Atmospheric Administration (NOAA), Commerce.

ACTION: Issuance of permit.

SUMMARY: Notice is hereby given that Ronald Smolowitz, Coonamessett Farm Foundation, Inc., 277 Hatchville Road, East Falmouth, MA 02536, has been issued a permit to take loggerhead (Caretta caretta), leatherback (Dermochelys coriacea), Kemp's ridley (Lepidochelys kempii), and green (Chelonia mydas) sea turtles for purposes of scientific research.

ADDRESSES: The permit and related documents are available for review upon written request or by appointment in the following offices:

Permits, Conservation and Education Division, Office of Protected Resources, NMFS, 1315 East-West Highway, Room 13705, Silver Spring, MD 20910; phone (301)713-2289; fax (301)713-0376;

Northeast Region, NMFS, 55 Great Republic Drive, Gloucester, MA 01930; phone (978)281-9300; fax (978)281-9333.

FOR FURTHER INFORMATION CONTACT: Patrick Opay or Kate Swails, (301)713-2289.

SUPPLEMENTARY INFORMATION: On February 24, 2009, notice was published in the Federal Register (74 FR 8230) that a request for a scientific research permit to take loggerhead, leatherback, Kemp's ridley, and green sea turtles had been submitted by the above-named individual. The requested permit has been issued under the authority of the Endangered Species Act of 1973, as amended (ESA; 16 U.S.C. 1531 et seq.) and the regulations governing the taking, importing, and exporting of endangered and threatened species (50 CFR parts 222-226).

Researchers will evaluate modifications to scallop dredge gear that may reduce the probability of turtle injuries due to interactions with gear. They will also study sea turtle behavior so that behavior can be factored into bycatch reduction strategies and collect biological and animal health information to improve NMFS' ability to assess stocks and the impact of anthropogenic activities. Up to 23 loggerheads, 1 leatherback, 1 green, and 1 Kemp's ridley would be taken during the dredge gear study. All of these takes could result in injury or mortality. Up to 100 loggerheads would be followed by a remotely operated vehicle annually during the behavior study. Up to 10 loggerheads would be captured annually by dip net and have a satellite transmitter or Crittercam attached to their carapace. All animals would be measured, flipper and passive integrated transponder tagged, tissue sampled, cloacal swabbed, nasal swabbed, photographed, weighed, and released. Dead animals could be salvaged for scientific purposes. This is a 5 year permit and research activities would occur in the Atlantic Ocean off the coast of the northeastern United States.

Issuance of this permit, as required by the ESA, was based on a finding that such permit (1) was applied for in good faith, (2) will not operate to the disadvantage of such endangered or threatened species, and (3) is consistent with the purposes and policies set forth in section 2 of the ESA.

Dated: October 21, 2009.
P. Michael Payne,
Chief, Permits, Conservation and Education Division, Office of Protected Resources, National Marine Fisheries Service.

[FR Doc. E9-25985 Filed 10-27-09; 8:45 am]

BILLING CODE 3510-22-S